EXPORT-IMPORT BANK

[Public Notice 2013-0015]

Application for Final Commitment for a Long-Term Loan or Financial Guarantee in Excess of $100 Million: AP086677XX

AGENCY: Export-Import Bank of the United States.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction.

Reference: AP086677XX.

Purpose and Use:

Brief description of the purpose of the transaction:

A direct loan to a Hong Kong-based company to support the procurement of two U.S. manufactured satellites as well as U.S. launch services and launch insurance.

Brief non-proprietary description of the anticipated use of the items being exported:

The loan will enable the Hong Kong based company to finance the construction and launch of two U.S. manufactured satellites. The satellites are expected to provide additional capacity to broadcasting and telecommunications companies in the company's existing customer base in North East Asia, MENA, South Asia, Australia and ASEAN as well as potential growth in other markets such as India and Australasia.

To the extent that Ex-Im Bank is reasonably aware, the item(s) being exported are not expected to produce exports or provide services in competition with the exportation of goods or provision of services by a United States industry.

Parties:

Principal Supplier(s):

• Space Systems/Loral Inc.

• Space Exploration Technologies Corporation.

Obligor: Asia Satellite Telecommunications Company Limited.

Guarantor(s): N/A.

Description of Items Being Exported: To finance the construction and launch of two U.S. manufactured satellites and related ground facility equipment, data and services, U.S. launch services and launch insurance.

Information On Decision: Information on the final decision for this transaction will be available in the “Summary Minutes of Meetings of Board of Directors” on http://www.exim.gov/newsandevents/boardmeetings/board/.

Confidential Information: Please note that this notice does not include confidential or proprietary business information; information which, if disclosed, would violate the Trade Secrets Act; or information which would jeopardize jobs in the United States by supplying information that competitors could use to compete with companies in the United States.

DATES: Comments must be received on or before March 25, 2013 to be assured of consideration before final consideration of the transaction by the Board of Directors of Ex-Im Bank.

ADDRESSES: Comments may be submitted through Regulations.gov at www.regulations.gov. To submit a comment, enter EIB-2013-0015 the heading “Enter Keyword or ID” and select Search. Follow the instructions provided at the Submit a Comment screen. Please include your name, company name (if any) and EIB-2013-0015 on any attached document.

Sharon A. Whitt,
Records Clearance Officer.

[FR Doc. 2013-04572 Filed 2-27-13; 8:45 am]

BILLING CODE 6690-01-P